DEPARTMENT OF COMMERCE

International Trade Administration

[A-423-814, A-580-899, A-791-824]

Acetone From Belgium, the Republic of South Africa, and the Republic of Korea: Correction to Antidumping Duty Orders

AGENCY: Enforcement and Compliance, International Trade Administration, Department of Commerce.

SUMMARY: The Department of Commerce (Commerce) is correcting the antidumping duty (AD) orders on acetone from Belgium, the Republic of South Africa (South Africa), and the Republic of Korea (Korea).

DATES: Applicable April 17, 2020.

FOR FURTHER INFORMATION CONTACT: Alex Cipolla, AD/CVD Operations, Office VII, Enforcement and Compliance, International Trade Administration, U.S. Department of Commerce, 1401 Constitution Avenue NW, Washington, DC 20230; telephone: (202) 482-4956.

SUPPLEMENTARY INFORMATION: On March 31, 2020, Commerce published in the Federal Register the antidumping duty orders for acetone from Belgium, South Africa, and Korea.¹ Pursuant to section 733(d) of the Act, suspension of liquidation instructions issued pursuant to an affirmative preliminary AD determination may not remain in effect for more than four months, except where exporters representing a significant proportion of exports of the subject merchandise request Commerce to extend that four-month period to no more than six months. In the Orders, we erroneously stated that the six-month period, beginning on the date of publication of the Preliminary Determinations,² ended on March 22, 2020.³ However, the 180-day period, beginning on the date of publication of the Preliminary Determinations, ended on March 21, 2020.

¹ See Acetone from Belgium, the Republic of South Africa, and the Republic of Korea: Antidumping Duty Orders, 85 FR 17866 (March 31, 2020) (Orders).

² See Acetone from Belgium: Preliminary Affirmative Determination of Sales at Less Than Fair Value, Postponement of Final Determination, and Extension of Provisional Measures, 84 FR 49999 (September 24, 2019); see also Acetone from the Republic of Korea: Preliminary Affirmative Determination of Sales at Less Than Fair Value, Postponement of Final Determination, and Extension of Provisional Measures, 84 FR 50005 (September 24, 2019); and Acetone from the Republic of South Africa: Preliminary Affirmative Determination of Sales and Less Than Fair Value, Postponement of Final Determination, and Extension of Provisional Measures, 84 FR 49984 (September 24, 2019) (collectively, Preliminary Determinations).

³ See Orders at 17867.

AD duties will be assessed on unliquidated entries of acetone from Belgium, South Africa, and Korea entered, or withdrawn from warehouse, for consumption on or after September 24, 2019 (which is the date of publication of the Preliminary Determinations), but will not be assessed on entries occurring after the expiration of the provisional measures period on March 21, 2020, and before publication of the International Trade Commission's final affirmative injury determinations. No other changes have been made to the Orders.

These corrected orders are published in accordance with sections 706(a) and 736(a) of the Act and 19 CFR 351.211(b).

Dated: April 13, 2020.
Jeffrey I. Kessler,
Assistant Secretary for Enforcement and Compliance.

[FR Doc. 2020-08140 Filed 4-16-20; 8:45 am]

BILLING CODE 3510-DS-P